DEPARTMENT OF ENERGY

Federal Energy Regulatory Commission

[Project No. 2105-089; 2105-126]

Pacific Gas and Electric Company; Notice of Petition for Declaratory Order

Take notice that on April 24, 2020, Pacific Gas and Electric Company (PG&E), applicant for relicensing the Upper North Fork Feather River Hydroelectric Project No. 2105, filed a petition for declaratory order (petition) pursuant to Rule 207(a)(2) of the Federal Energy Regulatory Commission's Rules of Practice and Procedure, 18 CFR 385.207(a)(2). PG&E requests that the Commission declare that the California State Water Resources Control Board has waived its authority to issue a certification for the Upper North Fork Feather River Project under Section 401 of the Clean Water Act, 33 U.S.C. 1341(a)(1), as more fully explained in the petition.

Any person wishing to comment on PG&E's petition may do so.¹ The deadline for filing comments is 30 days from the issuance of this notice. The Commission encourages electronic submission of comments in lieu of paper using the eFiling link at http://www.ferc.gov. Persons unable to file electronically should send comments to the following address: Federal Energy Regulatory Commission, 888 First Street, NE, Washington, DC 20426. Hand delivered submissions in docketed proceedings should be delivered to Health and Human Services, 12225 Wilkins Avenue, Rockville, Maryland 20852. Be sure to reference the project docket numbers (P-2105-089 and -126) with your submission.

¹ PG&E's request is part of its relicensing proceeding in Project No. 2105-089. Thus, any person that intervened in the relicensing proceeding is already a party. The filing of the petition in this case does not trigger a new opportunity to intervene.

In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on June 5, 2020.

Dated: May 6, 2020.
Nathaniel J. Davis, Sr.,
Deputy Secretary.

[FR Doc. 2020-10119 Filed 5-11-20; 8:45 am]

BILLING CODE 6717-01-P